DEPARTMENT OF AGRICULTURE

Animal and Plant Health Inspection Service

[Docket No. APHIS-2008-0015]

Citrus Greening and Asian Citrus Psyllid; Availability of an Environmental Assessment

AGENCY: Animal and Plant Health Inspection Service, USDA.

ACTION: Notice of availability and request for comments.

SUMMARY: We are advising the public that an environmental assessment has been prepared by the Animal and Plant Health Inspection Service relative to a proposed control program for citrus greening disease and the Asian citrus psyllid. The environmental assessment documents our review and analysis of the potential environmental impacts associated with the implementation of this program. We are making this environmental assessment available to the public for review and comment.

DATES: We will consider all comments that we receive on or before November 9, 2009.

ADDRESSES: You may submit comments by either of the following methods:

• Federal eRulemaking Portal: Go to http://www.regulations.gov/fdmspublic/component/main?main=DocketDetail&d=APHIS-2008-0015 to submit or view comments and to view supporting and related materials available electronically.

• Postal Mail/Commercial Delivery: Please send two copies of your comment to Docket No. APHIS-2008-0015, Regulatory Analysis and Development, PPD, APHIS, Station 3A-03.8, 4700 River Road, Unit 118, Riverdale, MD 20737-1238. Please state that your comment refers to Docket No. APHIS-2008-0015.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Patrick Gomes, APHIS, PPQ, 920 Main Campus Drive, Suite 200, Raleigh, NC 27606-5213; (919) 855-7313.

SUPPLEMENTARY INFORMATION:

Background

Citrus greening, also known as huanglongbing disease of citrus, is considered to be one of the most serious citrus diseases in the world. Citrus greening is a bacterial disease caused by strains of the bacterial pathogen “Candidatus Liberibacter asiaticus” that attacks the vascular system of host plants. The bacteria are phloem-limited, inhabiting the food-conducting tissue of the host plant, and causes yellow shoots, blotchy mottling and chlorosis, reduced foliage, and tip dieback of citrus plants. Citrus greening greatly reduces production, destroys the economic value of the fruit, and can kill trees. Once a tree is infected with citrus greening, there is no cure for the disease. In areas of the world where citrus greening is endemic, citrus trees decline and die within a few years and may never produce usable fruit. Citrus greening was first detected in the United States in Miami-Dade County, FL, in 2005, and is only known to be present in the United States in the States of Florida and Georgia, two parishes in Louisiana, and two counties in South Carolina.

The bacterial pathogen causing citrus greening can be transmitted by grafting, and under laboratory conditions, by dodder. There also is some evidence that seed transmission may occur. The pathogen can also be transmitted by two insect vectors in the family Psyllidae: Diaphorina citri Kuwayama, the Asian citrus psyllid (ACP), and Trioza erytreae (del Guercio), the African citrus psyllid. ACP can also cause economic damage to citrus in groves and nurseries by direct feeding. Both adults and nymphs feed on young foliage, depleting the sap and causing galling or curling of leaves. High populations feeding on a citrus shoot can kill the growing tip. ACP is currently present in Alabama, California, Florida, Georgia, Guam, Hawaii, Louisiana, Mississippi, Puerto Rico, South Carolina, and Texas. Based on regular surveys of domestic commercial citrus-producing areas, the African citrus psyllid is not present in the United States.

The Animal and Plant Health Inspection Service (APHIS) of the United States Department of Agriculture (USDA) has undertaken measures to control the artificial spread of citrus greening to noninfested areas of the United States since its introduction in 2005. On September 16, 2005, APHIS issued a Federal Order designating one affected county in Florida as a quarantined area, and imposing restrictions on the interstate movement all citrus greening and ACP host material from this area.¹

¹ To view the September 2005 Federal Order or any other Federal order referenced in this document, go to http://www.aphis.usda.gov/plant_health/plant_pest_info/citrus_greening/regs.shtml.

In January 2006, we issued an environmental assessment titled “Citrus Greening Control Program in Florida Nurseries” (January 2006).² This document assessed the environmental impacts associated with the use of the pesticide treatments acetamiprid, chlorpyrifos, fenpropathrin, imidacloprid, kaolin, and a cyfluthrin/imidacloprid mixture as part of a disease control program for citrus greening and ACP.

² To view the 2006 environmental assessment, go to http://www.aphis.usda.gov/plant_health/ea/downloads/citrusgreening1-06ea.pdf.

On November 2, 2007, we issued a revised order that designated additional counties in Florida as areas quarantined for citrus greening, and that quarantined 32 counties in Texas, the entire States of Florida and Hawaii, the entire Territory of Guam, and the entire Commonwealth of Puerto Rico for ACP. The November 2007 order also contained treatments that could be performed on ACP regulated articles to allow their movement from a quarantined area to areas of the United States other than commercial citrus-producing States. The order stated that, prior to movement, host material (other than Bergera (Murraya) koenigii, or curryleaf) had to be treated using an Environmental Protection Agency-approved product labeled for use in nurseries. The articles had to subsequently be treated with a drench containing imidacloprid as the active ingredient within 30 days prior to movement and with a foliar spray with a product containing acetamiprid, chlorpyrifos, or fenpropathrin as the active ingredient within 10 days prior to movement. Provided that it did not originate from an area quarantined for citrus greening, curryleaf could be moved interstate to any State following treatment with methyl bromide according to the APHIS-approved treatment schedule MB T101-n-2, found in 7 CFR part 305.

We accompanied this revised order with a notice ³ published in the Federal Register on November 2, 2007 (72 FR 62204-62205; Docket No. APHIS-2007-0135), in which we announced to the public the availability of an environmental assessment titled “Movement of Regulated Articles from Citrus Greening and Asian Citrus Psyllid Quarantine Zones” (October 2007). The assessment evaluated the possible environmental impacts associated with implementation of the revised Federal Order, and, in particular, the treatment schedules specified within it.

³ To view the notice and the environmental assessment, go to http://www.regulations.gov/fdmspublic/component/main?main=DocketDetail&d=APHIS-2007-0135.

Since issuance of these documents, we have issued six additional Federal Orders to designate new areas as quarantined areas for citrus greening or ACP. In these orders, we have added irradiation treatment at 400 gray as an approved treatment for ACP host articles, provided that the articles do not originate from an area that is quarantined for citrus greening. The latest Federal Order was issued on July 29, 2009.

Concurrent with the issuance of these Federal Orders, we have also received requests from citrus industry representatives and State plant health officials in several States with commercial citrus production to examine the efficacy of in-ground granular applications containing dinotefuran and foliar sprays containing bifenthrin, deltamethrin, dinotefuran, or a mixture of imidacloprid and cyfluthrin as pesticide treatments for ACP. We have found them to be effective in treating regulated nursery stock for ACP.

Accordingly, we have completed an assessment of the environmental impacts anticipated from a control program that would incorporate the provisions of the latest Federal order, the use of these new granular applications and foliar sprays as treatments for ACP, and additional measures that are currently not included in the July 29, 2009 Federal Order but that we consider necessary to prevent the spread of citrus greening and ACP to currently unaffected areas of the United States.

APHIS' review and analysis of these potential environmental impacts are documented in detail in an environmental assessment titled “Quarantine and Interstate Movement of Citrus Greening and Asian Citrus Psyllid” (July 2009). We are making this assessment available to the public for review and comment. We will consider all comments that we receive on or before the date listed under the heading DATES at the beginning of this notice.

The environmental assessment may be viewed on the Regulations.gov Web site or in our reading room (see ADDRESSES above for instructions for accessing the document on Regulations.gov and information on the location and hours of the reading room). You may request paper copies of the environmental assessment by calling or writing to the person listed under FOR FURTHER INFORMATION CONTACT. Please refer to title of the assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 2nd day of September 2009.
Kevin Shea,
Acting Administrator, Animal and Plant Health Inspection Service.

[FR Doc. E9-21669 Filed 9-8-09; 8:45 am]

BILLING CODE 3410-34-P